DEPARTMENT OF TRANSPORTATION

Federal Aviation Administration

14 CFR Part 39

[Docket No. FAA-2023-0430; Project Identifier MCAI-2022-01092-R; Amendment 39-22378; AD 2023-05-09]

RIN 2120-AA64

Airworthiness Directives; Airbus Helicopters Deutschland GmbH (AHD) Helicopters

AGENCY: Federal Aviation Administration (FAA), DOT.

ACTION: Final rule; request for comments.

SUMMARY: The FAA is adopting a new airworthiness directive (AD) for all Airbus Helicopters Deutschland GmbH (AHD) Model EC135P3 and EC135T3 helicopters with Helionix installed, and Model MBB-BK 117 D-2 and MBB-BK 117 D-3 helicopters. This AD was prompted by multiple reports of multi-function display (MFD) failures. This AD requires revising the existing Rotorcraft Flight Manual (RFM) for your helicopter. This AD also requires repetitively inspecting the MFD, and depending on the results, installing placards and limiting the operation of the helicopter, and taking other corrective action, as specified in a European Union Aviation Safety Agency (EASA) AD, which is incorporated by reference. The FAA is issuing this AD to address the unsafe condition on these products.

DATES: This AD becomes effective March 31, 2023.

The Director of the Federal Register approved the incorporation by reference of a certain publication listed in this AD as of March 31, 2023.

The FAA must receive comments on this AD by May 1, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-0430; or in person at Docket Operations between 9 a.m. and 5 p.m., Monday through Friday, except Federal holidays. The AD docket contains this final rule, any comments received, and other information. The address for Docket Operations is listed above.

Material Incorporated by Reference:

• For EASA material that is incorporated by reference in this final rule, contact EASA, Konrad-Adenauer-Ufer 3, 50668 Cologne, Germany; telephone +49 221 8999 000; email ADs@easa.europa.eu; internet easa.europa.eu. You may find the EASA material on the EASA website at ad.easa.europa.eu.

• You may view this material at the FAA, Office of the Regional Counsel, Southwest Region, 10101 Hillwood Pkwy., Room 6N-321, Fort Worth, TX 76177. For information on the availability of this material at the FAA, call (817) 222-5110. It is also available at regulations.gov under Docket No. FAA-2023-0430.

Other Related Service Information: For Airbus Helicopters service information identified in this final rule, contact Airbus Helicopters, 2701 North Forum Drive, Grand Prairie, TX 75052; telephone (972) 641-0000 or (800) 232-0323; fax (972) 641-3775; or at airbus.com/helicopters/services/technical-support.html. You may also view this service information at the FAA contact information under Material Incorporated by Reference above.

FOR FURTHER INFORMATION CONTACT: Kristi Bradley, Program Manager, COS Program Management Section, Operational Safety Branch, Compliance & Airworthiness Division, FAA, 10101 Hillwood Pkwy., Fort Worth, TX 76177; telephone (817) 222-5110; email kristin.bradley@faa.gov.

SUPPLEMENTARY INFORMATION:

Background

EASA, which is the Technical Agent for the Member States of the European Union, has issued two EASA ADs with the most recent being EASA AD 2022-0168, dated August 12, 2022 (EASA AD 2022-0168), to correct an unsafe condition for Airbus Helicopters Deutschland GmbH Model EC135 P3H, EC135 T3H, EC635 P3H, EC635 T3H, MBB-BK117 D-2, MBB-BK117 D-3, and MBB-BK117 D-3m helicopters; and Airbus Helicopters Model EC 175 B and H160-B helicopters.

EASA AD 2022-0168 superseded EASA AD 2022-0143, dated July 8, 2022 (EASA AD 2022-0143). EASA AD 2022-0143 was prompted by reports where all MFDs failed on an MBB-BK117 D-3 helicopter. An investigation determined that a deficiency in the Ethernet network management of the Integrated Modular Avionics (IMA) suite led to the failures of the MFDs. To address this unsafe condition, EASA issued EASA AD 2022-0143, which required repetitive checks (inspections) of the functional status of the IMA Ethernet network and, depending on the results, certain corrective action(s), which may include an operational limitation. This operational limitation, if required, prohibited the operation of a helicopter in Instrument Meteorological Conditions (IMC) and Night Visual Meteorological Conditions (VMC); and required installation of a placard on the instrument panel.

After EASA issued EASA AD 2022-0143, Airbus Helicopters developed an RFM emergency procedure to provide instruction, which is to be applied in case of loss of all MFD function; therefore, EASA issued superseding EASA AD 2022-0168 to retain the requirements of EASA AD 2022-0143 and also require incorporating the RFM emergency procedure. EASA AD 2022-0168 is considered to be an interim action and states that further AD action may follow.

The FAA is issuing this AD to address possible loss of MFD function which results in the unexpected loss of display of important flight parameters to the pilots, which could lead to loss of control of the helicopter. See EASA AD 2022-0168 for additional background information.

Related Service Information Under 1 CFR Part 51

EASA AD 2022-0168 requires repetitively testing several components of the IMA suite and depending on the results, troubleshooting is required. Depending on the results of the troubleshooting procedure, EASA AD 2022-0168 also requires implementing certain operational limitations and installing a placard in the cockpit. Lastly, EASA AD 2022-0168 also requires revising the RFM to incorporate emergency procedures in the event of MFD failure displayed on all MFDs.

This material is reasonably available because the interested parties have access to it through their normal course of business or by the means identified in the ADDRESSES section.

Other Related Service Information

The FAA reviewed Airbus Helicopters Alert Service Bulletin (ASB) EC135H-05A-001, ASB MBB-BK117 D-3-05A-001, and ASB MBB-BK117 D-2-05A-003, each Revision 0 and each dated July 7, 2022. This service information specifies procedures for checking the Ethernet connection of equipment with the MFDs and, if necessary, specifies the operation limitation and installation of the placard in the cockpit of the applicable model helicopter.

The FAA also reviewed Airbus Helicopters Safety Information Notice (SIN) No. 3838-S-42, Revision 0, dated October 26, 2022. This SIN provides additional background information and supplementary notes and recommendations regarding MFD failure during flight.

FAA's Determination

These helicopters have been approved by EASA and are approved for operation in the United States. Pursuant to the FAA's bilateral agreement with the European Union, EASA has notified the FAA about the unsafe condition described in its AD. The FAA is issuing this AD after evaluating all pertinent information and determining that the unsafe condition exists and is likely to exist or develop on other helicopters of the same type designs.

Requirements of This AD

This AD requires accomplishing the actions specified in EASA AD 2022-0168, described previously, as incorporated by reference, except for any differences identified as exceptions in the regulatory text of this AD and except as discussed under “Differences Between this AD and the EASA AD.”

This AD also requires revising the existing RFM for your helicopter. Revising the existing RFM for your helicopter by updating the emergency procedures section may be performed by the owner/operator (pilot) holding at least a private pilot certificate and must be entered into the aircraft records showing compliance with this AD in accordance with 14 CFR 43.9(a) and 91.417(a)(2)(v). The record must be maintained as required by 14 CFR 91.417, 121.380, or 135.439.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2022-0168 is incorporated by reference in this FAA final rule. Service information referenced in EASA AD 2022-0168 is available at regulations.gov under Docket No. FAA-2023-0430.

Differences Between This AD and the EASA AD

EASA AD 2022-0168 applies to Airbus Helicopters Deutschland GmbH Model EC635 P3H, EC635 T3H, and MBB-BK117 D-3m helicopters and Airbus Helicopters Model EC 175B and H160-B helicopters. This AD does not apply to those model helicopters because those models are not FAA type-certificated. EASA AD 2022-0168 also applies to Airbus Helicopters Deutschland GmbH Model EC135 P3H and EC135 T3H helicopters. This AD applies to Airbus Helicopters Deutschland GmbH (AHD) Model EC135P3 and EC135T3 helicopters with Helionix installed instead because helicopters with an EC135P3H or EC135T3H designation are Model EC135P3 helicopters or Model EC135T3 helicopters with Helionix installed, respectively.

EASA AD 2022-0168 requires revising the emergency procedures section of the existing RFM for your helicopter to specify that a pilot “land as soon as practicable” in the event there is MFD failure on all MFDs, whereas this AD requires revising the emergency procedures section of the existing RFM for your helicopter to specify that a pilot “land as soon as possible” in the event there is MFD failure on all MFDs.

This AD allows the owner/operator (pilot) holding at least a private pilot certificate to revise the existing RFM for your helicopter and do the logbook entry, whereas EASA AD 2022-0168 does not specify this. This AD requires these actions to be entered into the aircraft records showing compliance with this AD in accordance with 14 CFR 43.9(a) and 91.417(a)(2)(v). The record must be maintained as required by 14 CFR 91.417, 121.380, or 135.439.

EASA AD 2022-0168 requires certain operational and maintenance mode test procedure checks, and checking certain wires, whereas this AD requires operational and maintenance mode test procedure inspections because those actions must be accomplished by persons authorized under 14 CFR 43.3. Where EASA AD 2022-0168 requires “installation of a placard in the cockpit,” this AD also requires that action be accomplished by persons authorized under 14 CFR 43.3.

EASA AD 2022-0168 requires operators to “inform all flight crews” of the operational limitation as defined in EASA AD 2022-0168 and, thereafter, to “operate the helicopter accordingly.” However, this AD does not specifically require those actions. FAA regulations mandate compliance with placards; therefore, it is not necessary to include a requirement in this AD to “operate the helicopter accordingly.” Furthermore, compliance with an AD requirement to “inform all flight crews” of the additional operational limitation is impracticable to demonstrate or track on an ongoing basis; therefore, a requirement to inform all flight crews of an additional operational limitation is unenforceable.

EASA AD 2022-0168 specifies contacting Airbus Helicopters to obtain approved instructions and accomplishing those instructions, whereas this AD requires accomplishing corrective action in accordance with a method approved by the FAA, EASA, or Airbus Helicopters Deutschland GmbH's EASA Design Organization Approval.

Interim Action

The FAA considers this AD interim action. If further action is identified, the FAA might consider further rulemaking.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the multi-function display is a critical component of the helicopter and displays vital avionics information to the pilot, and loss of its functionality could occur during any phase of flight without previous indication. The FAA also has no information as to how quickly this condition may propagate into failure. In light of this, the initial inspection must be accomplished within 55 hours time-in-service after the effective date of this AD. Based on the average flight-hour utilization rates of these helicopters, some of these helicopters could reach the compliance time for the initial requirements within about two months. Therefore, the compliance time for the required actions is shorter than the time necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2023-0430; Project Identifier MCAI-2022-01092-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Kristi Bradley, Program Manager, COS Program Management Section, Operational Safety Branch, Compliance & Airworthiness Division, FAA, 10101 Hillwood Pkwy., Fort Worth, TX 76177; telephone (817) 222-5110; email kristin.bradley@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 97 helicopters of U.S. Registry. Labor rates are estimated at $85 per work-hour. Based on these numbers, the FAA estimates the following costs to comply with this AD.

Inspecting the Ethernet connectivity of the IMA suite takes up to 0.25 work-hour for an estimated cost of up to $21 per helicopter and $2,037 for the U.S. fleet per inspection cycle.

If necessary, troubleshooting the components of the IMA suite takes up to 12 work-hours for an estimated cost of up to $1,020 per helicopter. Additionally, during troubleshooting, you may incur the following costs:

If necessary, repairing the IMA suite cables takes up to 25 work-hours for an estimated cost of up to $2,125 per cable repair.

If necessary, replacing the data transfer device (DTD) takes about 2 work-hours and parts cost about $18,711 for an estimated cost of $18,881 per DTD replacement.

If necessary, replacing the airborne communication server (ACS) takes about 6 work-hours and parts cost $35,702 for an estimated cost of $36,212 per ACS replacement.

If necessary, replacing a dynamic monitoring acquisition unit (DMAU) takes about 5 work-hours and parts cost about $66,457 for an estimated cost of $66,882 per replacement.

If necessary, replacing an MFD takes about 8 work-hours and parts cost about $71,296 for an estimated cost of $71,976 per replacement.

If necessary, replacing the aircraft management computer (AMC) takes about 10 work-hours and parts cost about $92,051 for an estimated cost of $92,901 per replacement.

If necessary, installing placards on the instrument panel would take about 1 work-hour and parts cost a nominal amount for an estimated cost of $85 per helicopter.

The FAA has no data to estimate the costs to accomplish approved repairs based on the results of the inspections and the FAA has no data to determine the number of helicopters that might need repair.

Revising the existing RFM for your helicopter takes about 0.25 work-hour for an estimated cost of $21 per helicopter and $2,037 for the U.S fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-05-09 Airbus Helicopters Deutschland GmbH (AHD): Amendment 39-22378; Docket No. FAA-2023-0430; Project Identifier MCAI-2022-01092-R.

(a) Effective Date

This airworthiness directive (AD) is effective March 31, 2023.

(b) Affected ADs

None.

(c) Applicability

This AD applies to Airbus Helicopters Deutschland GmbH (AHD) Model EC135P3 and EC135T3 helicopters with Helionix installed, and Model MBB-BK 117 D-2 and MBB-BK 117 D-3 helicopters, certificated in any category.

Note 1 to paragraph (c): Helicopters with an EC135P3H or EC135T3H designation are Model EC135P3 helicopters or Model EC135T3 helicopters with Helionix installed, respectively.

(d) Subject

Joint Aircraft System Component (JASC) Code: 3197, Instrument System Wiring.

(e) Unsafe Condition

This AD was prompted by reports of multiple multi-function display (MFD) failures during flight. The FAA is issuing this AD to address failure of an MFD and consequent loss of display information during flight. The unsafe condition, if not addressed, could result in the unexpected loss of display of important flight parameters to the pilots, which could result in loss of control of the helicopter.

(f) Compliance

Comply with this AD within the compliance times specified, unless already done.

(g) Requirements

(1) Except as specified in paragraph (h) of this AD: Comply with all required actions and compliance times specified in, and in accordance with, paragraphs (1), (2), (4), and (5) of European Union Aviation Safety Agency (EASA) AD 2022-0168, dated August 12, 2022 (EASA AD 2022-0168).

(2) Within 7 days after the effective date of this AD, revise the existing Rotorcraft Flight Manual (RFM) for your helicopter by incorporating the RFM emergency procedure in Figure 1 or Figure 2 to paragraph (g)(2) of this AD as applicable to your model helicopter. Revising the existing RFM for your helicopter by updating the emergency procedures section may be performed by the owner/operator (pilot) holding at least a private pilot certificate and must be entered into the aircraft records showing compliance with this AD in accordance with 14 CFR 43.9(a) and 91.417(a)(2)(v). The record must be maintained as required by 14 CFR 91.417, 121.380, or 135.439.

BILLING CODE 4910-13-P

Figure 1 to Paragraph (g)(2): RFM Emergency Procedure—Model MBB-BK117 Helicopters

Figure 2 to Paragraph (g)(2): RFM Emergency Procedure—Model EC135 Helicopters

BILLING CODE 4910-13-C

(3) After the actions required by paragraph (g)(1) of this AD have been done, no alternative requirements (inspections) are allowed unless they are approved as specified in the provisions of the “Ref. Publications” section of EASA AD 2022-0168.

(h) Exceptions to EASA AD 2022-0168

(1) Where EASA AD 2022-0168 requires compliance in terms of flight hours, this AD requires using hours time-in-service.

(2) Where EASA AD 2022-0168 refers to July 15, 2022 (the effective date of EASA AD 2022-0143 dated July 8, 2022) or its effective date, this AD requires using the effective date of this AD.

(3) Where paragraph (1) of EASA AD 2022-0168 specifies “accomplish a check in accordance with the maintenance mode test procedure, and in accordance with the operational mode test procedure, as defined in this AD” for this AD, replace that text with “accomplish an inspection in accordance with the maintenance mode test procedure, and in accordance with the operational mode test procedure, as defined in this AD.”

(4) Where paragraph (2) of EASA AD 2022-0168 specifies “if, during any check as required by paragraph (1) of this AD,” replace that text with “if, during any inspection as required by paragraph (1) of this AD.”

(5) Where the service information referenced in EASA AD 2022-0168 permits certain actions to be performed by a pilot or equivalent with the correct training and accreditation, this AD requires those actions to be accomplished by persons authorized under 14 CFR 43.3.

(6) Where paragraph (4) of EASA AD 2022-0168 specifies to “inform all flight crews and, thereafter, operate the helicopter accordingly,” this AD does not require those actions.

(7) Where the service information referenced in EASA AD 2022-0168 specifies “If the continuity test is not satisfactory, check and repair the associated wires;” for this AD, replace that text with “If the continuity test is not satisfactory, inspect and repair the associated wires.”

(8) Where the service information referenced in EASA AD 2022-0168 specifies-contacting Airbus Helicopters for a technical solution, this AD requires corrective action done in accordance with a method approved by the Manager, General Aviation & Rotorcraft Section, International Validation Branch, FAA; or EASA; or Airbus Helicopters Deutschland GmbH's EASA Design Organization Approval (DOA). If approved by the DOA, the approval must include the DOA-authorized signature.

(i) Special Flight Permits

Special flight permits are prohibited for flights in Instrument Meteorological Conditions (IMC) and Night Visual Meteorological Conditions (VMC).

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Kristi Bradley, Program Manager, COS Program Management Section, Operational Safety Branch, Compliance & Airworthiness Division, FAA, 10101 Hillwood Pkwy., Fort Worth, TX 76177; telephone (817) 222-5110; email kristin.bradley@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2022-0168, dated August 12, 2022.

(ii) [Reserved]

(3) For EASA AD 2022-0168, contact EASA, Konrad-Adenauer-Ufer 3, 50668 Cologne, Germany; telephone +49 221 8999 000; email ADs@easa.europa.eu; internet easa.europa.eu. You may find the EASA material on the EASA website at ad.easa.europa.eu.

(4) You may view this service information at the FAA, Office of the Regional Counsel, Southwest Region, 10101 Hillwood Pkwy., Room 6N-321, Fort Worth, TX 76177. For information on the availability of this material at the FAA, call (817) 222-5110.

(5) You may view this material that is incorporated by reference at the National Archives and Records Administration (NARA). For information on the availability of this material at NARA, email fr.inspection@nara.gov, or go to: www.archives.gov/federal-register/cfr/ibr-locations.html.

Issued on March 10, 2023.
Christina Underwood,
Acting Director, Compliance & Airworthiness Division, Aircraft Certification Service.

[FR Doc. 2023-05426 Filed 3-14-23; 8:45 am]

BILLING CODE 4910-13-P